DEPARTMENT OF STATE

[Public Notice: 6065]

60-Day Notice of Proposed Information Collection: Agency Form DS-4127, NEA/PI Online Performance Reporting System (PRS), OMB Control Number 1405-XXXX

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: NEA/PI Online Performance Reporting System (PRS).

• OMB Control Number: none.

• Type of Request: New collection.

• Originating Office: NEA/PI.

• Form Number: DS-4127.

• Respondents: Recipients of NEA/PI grants.

• Estimated Number of Respondents: 70 respondents annually.

• Estimated Number of Responses: 280 per year.

• Average Hours Per Response: 20.

• Total Estimated Burden: 5600 hours per year.

• Frequency: Quarterly.

• Obligation to Respond: Required to Obtain or Retain a Benefit.

DATE(S): The Department will accept comments from the public up to 60 days from January 18, 2008.

ADDRESSES: You may submit comments by any of the following methods:

• E-mail: HibbenBA@state.gov.

• Mail (paper, disk, or CD-ROM submissions):Barbara Hibben, Acting Deputy Director, U.S. Department of State, Office of the Middle East Partnership Initiative (NEA/PI), Bureau of Near Eastern Affairs, NEA Mail Room—Room 6258, 2201 C St., NW., Washington, DC 20520.

• Fax: 202-647-8445

• Hand Delivery or Courier: 2430 E St., NW. (23rd and D St., NW.), Navy Hill—SA-4—Central, Second Floor, Washington, DC 20037.

You must include the DS form number (if applicable), information collection title, and OMB control number in any correspondence.

FOR FURTHER INFORMATION CONTACT: Please direct requests for additional information regarding the collection listed in this notice, including requests for copies of the proposed information collection and supporting documents, to George Wilson, U.S. Department of State, Office of the Middle East Partnership Initiative (NEA/PI), Bureau of Near Eastern Affairs, NEA Mail Room—Room 6258, 2201 C St., NW., Washington, DC 20520, who may be reached on 202-776-8641 or at wilsongr@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection:

Since 2002, MEPI has obligated more than $430 million to over 250 organizations, who carry out more than 370 projects in support of political, economic, education and women's rights reform in 20 countries of the Middle East and North Africa. As a normal course of business and in compliance with OMB Guidelines contained in Circular A-110, recipient organizations are required to provide, and the U.S. State Department required to collect, periodic program and financial performance reports. The responsibility of the State Department to track and monitor the programmatic and financial performance necessitates a database that can help facilitate this in a consistent and standardized manner. The MEPI Performance Reporting System (PRS) enables enhanced monitoring and evaluation of grants through standardized collection and storage of relevant award elements, such as quarterly progress reports, workplans, results monitoring plans, grant agreements, financial reports, and other business information related to MEPI implementers. The PRS streamlines communication with implementers and allows for rapid identification of information gaps for specific projects.

Methodology:

Information will be entered into PRS electronically by respondents. Non-respondents will submit their quarterly reports on paper.

Additional Information:

Dated: December 20, 2007.
Barbara Hibben,
Acting Deputy Director, Bureau of Near Eastern Affairs, NEA/PI, Department of State.

[FR Doc. E8-901 Filed 1-17-08; 8:45 am]

BILLING CODE 4710-31-P